DEPARTMENT OF TRANSPORTATION

Federal Aviation Administration

[Summary Notice No. PE-2002-06]

Petitions for Exemption; Summary of Dispositions of Petitions Issued

AGENCY: Federal Aviation Administration (FAA), DOT.

ACTION: Notice of Dispositions for prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on January 24, 2002.
Donald P. Byrne,
Assistant Chief Counsel for Regulations.

Dispositions of Petitions

Docket No.: FAA-2000-8471.

Petitioner: Termikas, USA.

Section of 14 CFR Affected: 14 CFR 21.183(c).

Description of Relief Sought/Disposition: To permit Termikas to obtain a standard airworthiness certificate for each of its LET L-13 Blanik sailplanes without a certifying statement from the country of manufacture relating to the sailplanes' airworthiness.

Denial, 01/04/2002, Exempt No. 7688.

Docket No.: FAA-2001-11177 (previously Docket No. 29578).

Petitioner: Hawaiian Airlines.

Section of 14 CFR Affected: 14 CFR 121.433(c)(1)(iii), 121.441(a)(1) and (b)(1), and appendix F to part 121.

Description of Relief Sought/Disposition: To permit Hawaiian to establish an annual single-visit training program for its pilots and flight engineers and eventually transition to the advanced qualification program codified in Special Federal Aviation Regulation No. 58.

Grant, 01/08/2002, Exempt No. 7108A.

Docket No.: FAA-2001-8722.

Petitioner: SkyWest Airlines.

Section of 14 CFR Affected: 14 CFR 121.434(c)(1)(ii).

Description of Relief Sought/Disposition: To permit SkyWest to substitute a qualified and authorized check airman in place of the FAA inspector to observe a qualifying pilot in command who is completing initial or upgrade training specified in § 121.424 during at least one flight leg that includes a takeoff and a landing.

Grant, 01/09/2002, Exemption No. 7689.

[FR Doc. 02-2149 Filed 1-28-02; 8:45 am]

BILLING CODE 4910-13-M